DEPARTMENT OF TRANSPORTATION

Federal Aviation Administration

14 CFR Part 39

[Docket No. FAA-2014-0651; Directorate Identifier 2014-NM-043-AD; Amendment 39-18850; AD 2017-08-01]

RIN 2120-AA64

Airworthiness Directives; Gulfstream Aerospace Corporation Airplanes

AGENCY: Federal Aviation Administration (FAA), DOT.

ACTION: Final rule.

SUMMARY: We are superseding Airworthiness Directive (AD) 2013-22-19 for all Gulfstream Aerospace Corporation Model GV and GV-SP airplanes. AD 2013-22-19 required inspecting to determine if fuel boost pumps having a certain part number were installed, replacing the fuel boost pumps having a certain part number, and revising the airplane maintenance program to include revised Instructions for Continued Airworthiness. This new AD reduces the compliance time for revising the airplane maintenance or inspection program. This AD was prompted by reports of two independent types of failure of the fuel boost pump with overheat damage found on the internal components and external housing on one of the failure types, and fuel leakage on the other. We are issuing this AD to address the unsafe condition on these products.

DATES: This AD is effective May 17, 2017.

The Director of the Federal Register approved the incorporation by reference of certain publications listed in this AD as of May 17, 2017.

The Director of the Federal Register approved the incorporation by reference of certain other publications listed in this AD as of January 7, 2014 (78 FR 72554, December 3, 2013).

ADDRESSES: For Gulfstream, Triumph Aerostructures, and General Electric Aviation service information identified in this final rule, contact Gulfstream Aerospace Corporation, Technical Publications Dept., P.O. Box 2206, Savannah, GA 31402-2206; telephone 800-810-4853; fax 912 965-3520; email pubs@gulfstream.com; Internet http://www.gulfstream.com/product_support/technical_pubs/pubs/index.htm. You may view this referenced service information at the FAA, Transport Airplane Directorate, 1601 Lind Avenue SW., Renton, WA. For information on the availability of this material at the FAA, call 425-227-1221. It is also available on the Internet at http://www.regulations.gov by searching for and locating Docket No. FAA-2014-0651.

Examining the AD Docket

You may examine the AD docket on the Internet at http://www.regulations.gov by searching for and locating Docket No. FAA-2014-0651; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Ky Phan, Aerospace Engineer, Propulsion and Services Branch, ACE-118A, FAA, Atlanta ACO, 1701 Columbia Avenue, College Park, GA 30337; phone: 404-474-5536; fax: 404-474-5606; email: ky.phan@faa.gov.

SUPPLEMENTARY INFORMATION:

Discussion

We issued a supplemental notice of proposed rulemaking (SNPRM) to amend 14 CFR part 39 to supersede AD 2013-22-19, Amendment 39-17651 (78 FR 72554, December 3, 2013) (“AD 2013-22-19”). AD 2013-22-19 applied to all Gulfstream Aerospace Corporation Model GV and GV-SP airplanes. The SNPRM published in the Federal Register on December 24, 2015 (80 FR 80295). We preceded the SNPRM with a notice of proposed rulemaking (NPRM) that published in the Federal Register on October 1, 2014 (79 FR 59162) (“the NPRM”). The NPRM proposed to supersede AD 2013-22-19. The NPRM was prompted by reports of two independent types of failure of the fuel boost pump with overheat damage on the internal components and external housing on one of the failure types, and fuel leakage on the other. The SNPRM proposed to reduce the compliance time for revising the airplane maintenance or inspection program. We are issuing this AD to prevent fuel leakage in combination with a capacitor clearance issue, which could result in an uncontrolled fire in the wheel well.

Comments

We gave the public the opportunity to participate in developing this AD. The following presents the comments received on the SNPRM and the FAA's response to each comment.

Request for Access to Earlier Revisions of the Service Information

NetJets requested that we provide a source for earlier revisions of the required service information. NetJets stated that the NPRM specifies that the required service information is available from Gulfstream's Web site. NetJets stated that the Gulfstream Web site currently provides only the latest revision of each airplane maintenance manual (AMM) without the option to obtain earlier revisions, which will be incorporated by reference (IBR) in the AD.

We acknowledge NetJets' request. While previous revisions of the service information are not available through Gulfstream's Web site, operators may contact Gulfstream directly to obtain this information as specified in paragraph (p)(5) of this AD. We have updated this AD to reference the latest service information, which is available to operators through Gulfstream's Web site. We have not changed this final rule regarding this issue.

Request To Change the Term “Replacing” in Paragraph (b) of the Proposed AD

NetJets requested that we define the authority and meaning of the term “replaces” in regards to ADs. NetJets also requested that we revise the FAA's AD Manual, dated May 17, 2010 (FAA-IR-M-8040.1C). NetJets stated that “replaces” is not defined in the FAA's AD Manual or in other FAA guidance. NetJets commented that the FAA AD Manual defines the means of changing existing AD requirements to be through a “superseding AD action.” NetJets also stated that the SUMMARY section of the SNRPM also uses the term “supersede.”

We agree to clarify the use of the term “replaces” in regards to ADs. The term “replaces” in paragraph (b) of this AD is amendatory terminology required by the Office of the Federal Register. However, we use the term “supersede” or “superseding” in the SUMMARY section of AD actions because the FAA's AD Manual, dated May 17, 2010 (FAA-IR-M-8040.1C), does not use the term “replaces” when referring to an AD that supersedes or is superseded by another AD. As stated in the FAA AD Manual, we issue a supersedure when we need to correct an error that affects the substance of the AD or to expand the scope of the existing AD. We expect that the next revision of the FAA's AD Manual will incorporate the amendatory terminology required by the Office of the Federal Register. No change to this AD is necessary in this regard.

Request To Revise the SNPRM for Airplanes Inspected Under 14 CFR 91.409(e)

An anonymous commenter requested that we revise paragraph (i) of the proposed AD (in the SNPRM) to include a statement that the proposed requirements would not be required for those airplanes inspected under a 14 CFR 91.409(e) inspection program. The commenter stated that Task 28-26-01 is already mandated by the FAA-approved Airworthiness Limitations Section (ALS), which already mandates the task to be performed per the requirements of the ALS. Therefore, the commenter asserts that paragraph (i) of the proposed AD (in the SNPRM) is unnecessary for airplanes inspected under a 14 CFR 91.409(e) inspection program.

We disagree with the commenter's request. While 14 CFR 91.409(e) requires operators of turbojet multi-engine airplanes to comply with the replacement times of life-limited parts, 14 CFR 91.409(e) does not require operators to use later revisions of the AMMs that are specified in the type certificate. This AD is necessary in order to require revising the maintenance or inspection program, as applicable, to include the fuel leak check inspection of the fuel boost pumps specified in the applicable task identified in paragraph (j) of this AD. Paragraph (j) of this AD identifies specific revisions of the AMM, which are required for compliance with this AD. We have not changed this AD in this regard.

Requests To Refer To Correct Location of Task

NetJets and an anonymous commenter requested that we revise paragraph (j) of the proposed AD (in the SNPRM) to refer to table 12, Certification Maintenance Requirements (CMR), in section 05-10-10, Airworthiness Limitations, of chapter 05, Time Limits/Maintenance Checks, of the applicable Gulfstream AMM. NetJets stated that paragraph (j) of the proposed AD (in the SNPRM) instead specifies the use of table 18, 500 Flight Hours Scheduled Inspection Table, in section 05-20-00, Scheduled Maintenance Checks. NetJets and the anonymous commenter stated that this task does not exist in section 05-20-00 of the current AMM; it is now found in table 12, Certification Maintenance Requirements (CMR), in section 05-10-10, Airworthiness Limitations, of chapter 05, Time Limits/Maintenance Checks, of the applicable Gulfstream AMM.

We agree with the commenters' requests for the reasons stated above. We have updated paragraphs (j)(1), (j)(2), and (j)(3) of this AD to refer to the correct table and section where the specified task is found. In addition, we have added paragraph (k) to this AD to provide credit for actions specified in paragraph (i) of this AD that are done before the effective date of this AD using the service information specified in paragraph (k) of this AD. We have re-designated subsequent paragraphs accordingly.

Request To Add “or Later FAA-Approved Revision”

NetJets requested that we revise paragraph (j) of the proposed AD (in the SNPRM) to add “or later FAA-approved revision.” NetJets stated that section 05-20-00, Scheduled Maintenance Checks, of chapter 05, Time Limits/Maintenance Checks; and task 28-26-01, Fuel Boost Pumps—Fuel Leak Check, of chapter 28, Fuel; of the Gulfstream V AMM are now at Revision 44, dated June 15, 2016. NetJets commented that referring to a previous revision of the AMM would result in an immediate petition for approval of an alternate method of compliance (AMOC) with the newly revised document. NetJets stated that this narrow language would require the operator to obtain an AMOC for each future revision of the AMM.

NetJets further requested that, if the “later approved revisions” language cannot be added, the latest revisions of the AMMs be added as a method of compliance in paragraph (j) of the proposed AD.

We disagree with the commenter's request to add language allowing use of later revisions. We cannot use the phrase “or later FAA-approved revisions” in an AD when referring to the service document. Doing so violates Office of the Federal Register's (OFR) regulations for approval of materials “incorporated by reference” in rules. See 1 CFR 51.1(f).

However, as we stated previously, we have updated this AD to refer to the current service information. Operators must request approval to use later revisions of the service information as an AMOC with this AD under the provisions of paragraph (n) of this AD. We have made no further change to this AD in this regard.

Conclusion

We reviewed the relevant data, considered the comments received, and determined that air safety and the public interest require adopting this AD with the changes described previously and minor editorial changes. We have determined that these minor changes:

• Are consistent with the intent that was proposed in the SNPRM for correcting the unsafe condition; and

• Do not add any additional burden upon the public than was already proposed in the SNPRM.

We also determined that these changes will not increase the economic burden on any operator or increase the scope of this AD.

Related Service Information Under 1 CFR Part 51

We reviewed Gulfstream G500 Customer Bulletin 122, dated April 11, 2012 (for Model GV-SP airplanes designated as G500). This service information describes procedures for inspecting and replacing the fuel boost pumps.

We have also reviewed the following service information, as applicable, which describes, among other actions, a fuel leak check of the fuel boost pumps, and provides inspection intervals. These service documents are unique because they apply to different airplane models.

• Table 12, Certification Maintenance Requirements (CMR), in section 05-10-10, Airworthiness Limitations, of chapter 05, Time Limits/Maintenance Checks, of the Gulfstream V Maintenance Manual, Revision 44, dated June 15, 2016.

• Task 28-26-01, Fuel Boost Pumps—Fuel Leak Check, of section 28-26-01, Fuel Boost Pumps—Inspection/Check, of chapter 28, Fuel, of the Gulfstream V Maintenance Manual, Revision 44, dated June 15, 2016.

• Table 12, Certification Maintenance Requirements (CMR), in section 05-10-10, Airworthiness Limitations, of chapter 05, Time Limits/Maintenance Checks, of the Gulfstream G500 Maintenance Manual, Revision 25, dated June 15, 2016.

• Task 28-26-01, Fuel Boost Pumps—Fuel Leak Check, of section 28-26-01, Fuel Boost Pumps—Fuel Leak Checks, of chapter 28, Fuel, of the Gulfstream G500 Maintenance Manual, Revision 25, dated June 15, 2016.

• Table 12, Certification Maintenance Requirements (CMR), in section 05-10-10, Airworthiness Limitations, of chapter 05, Time Limits/Maintenance Checks, of the Gulfstream G550 Maintenance Manual, Revision 25, dated June 15, 2016.

• Task 28-26-01, Fuel Boost Pumps—Fuel Leak Check, of section 28-26-01, Fuel Boost Pumps—Inspection/Check, of chapter 28, Fuel, of the Gulfstream G550 Maintenance Manual, Revision 25, dated June 15, 2016.

This service information is reasonably available because the interested parties have access to it through their normal course of business or by the means identified in the ADDRESSES section.

Costs of Compliance

We estimate that this AD will affect 357 airplanes of U.S. registry.

We estimate the following costs to comply with this AD:

Estimated Costs
Action | Labor cost | Parts cost | Cost per product | Cost on U.S. operators
Inspection to determine if a certain part number is installed (retained actions from AD 2013-22-19) | 1 work-hour × $85 per hour = $85 | $0 | $85 | $30,345
Maintenance or inspection program revision (new action) | 1 work-hour × $85 per hour = $85 | 0 | 85 | 30,345

We estimate the following costs to do any necessary replacements that will be required based on the results of the inspection. We have no way of determining the number of aircraft that might need these replacements:

On-Condition Cost
Action | Labor cost | Parts cost | Cost per product
Replacement | 24 work-hours × $85 per hour = $2,040 | $7,600 | $9,640

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-22-19, Amendment 39-17651 (78 FR 72554, December 3, 2013), and adding the following new AD:

2017-08-01 Gulfstream Aerospace Corporation: Amendment 39-18850; Docket No. FAA-2014-0651; Directorate Identifier 2014-NM-043-AD.

(a) Effective Date

This AD is effective May 17, 2017.

(b) Affected ADs

This AD replaces AD 2013-22-19, Amendment 39-17651 (78 FR 72554, December 3, 2013) (“AD 2013-22-19”).

(c) Applicability

This AD applies to all Gulfstream Aerospace Corporation Model GV and GV-SP airplanes, certificated in any category.

(d) Subject

Air Transport Association (ATA) of America Code 28, Fuel.

(e) Unsafe Condition

This AD was prompted by reports of two independent types of failure of the fuel boost pump with overheat damage found on the internal components and external housing on one of the failure types, and fuel leakage on the other. We are issuing this AD to prevent fuel leakage in combination with a capacitor clearance issue, which could result in an uncontrolled fire in the wheel well.

(f) Compliance

Comply with this AD within the compliance times specified, unless already done.

(g) Retained Inspection To Determine the Part Number, With Revised Service Information

This paragraph restates the actions required by paragraph (g) of AD 2013-22-19, with revised service information. Within 36 months after January 7, 2014 (the effective date of AD 2013-22-19), inspect the fuel boost pumps to determine whether Gulfstream part number (P/N) 1159SCP500-5 is installed, in accordance with the Accomplishment Instructions of the applicable service information identified in paragraphs (g)(1), (g)(2), and (g)(3) of this AD; and Triumph Aerostructures Service Bulletin SB-TAGV/GVSP-28-JG0162, dated August 30, 2011, and GE Service Bulletin 31760-28-100, dated February 15, 2011. A review of airplane maintenance records is acceptable in lieu of this inspection if the part number of the fuel boost pumps can be conclusively determined from that review.

(1) For Model GV airplanes: Gulfstream V Customer Bulletin 197, dated April 11, 2012.

(2) For Model GV-SP airplanes designated as G500: Gulfstream G500 Customer Bulletin 122, dated April 11, 2012.

(3) For Model GV-SP airplanes designated as G550: Gulfstream G550 Customer Bulletin 122, dated April 11, 2012.

(h) Retained Replacement, With Revised Service Information

This paragraph restates the actions required by paragraph (h) of AD 2013-22-19, with revised service information. If the inspection required by paragraph (g) of this AD reveals a fuel boost pump with Gulfstream P/N 1159SCP500-5: Within 36 months after January 7, 2014 (the effective date of AD 2013-22-19), replace the fuel boost pump with a serviceable pump having Gulfstream P/N 1159SCP500-7, in accordance with the applicable service information identified in paragraphs (h)(1), (h)(2), and (h)(3) of this AD; and Triumph Aerostructures Service Bulletin SB-TAGV/GVSP-28-JG0162, dated August 30, 2011, and GE Service Bulletin 31760-28-100, dated February 15, 2011.

(1) For Model GV airplanes: Gulfstream V Customer Bulletin 197, dated April 11, 2012.

(2) For Model GV-SP airplanes designated as G500: Gulfstream G500 Customer Bulletin 122, dated April 11, 2012.

(3) For Model GV-SP airplanes designated as G550: Gulfstream G550 Customer Bulletin 122, dated April 11, 2012.

(i) New Revision of the Maintenance or Inspection Program

Within 30 days after the effective date of this AD, revise the airplane maintenance or inspection program, as applicable, to include the fuel leak check inspection of the fuel boost pumps specified in the applicable task identified in paragraph (j) of this AD.

(1) For airplanes on which fuel boost pump Gulfstream P/N 1159SCP500-5 has been replaced in accordance with paragraph (h) of this AD: The initial compliance time for the leak check inspection specified in the applicable task identified in paragraph (j) of this AD is within 550 flight hours after doing the replacement specified in paragraph (h) of this AD, or within 30 days after the effective date of this AD, whichever occurs later.

(2) For airplanes on which the inspection required by paragraph (g) of this AD reveals that a fuel boost pump with Gulfstream P/N 1159SCP500-7 has been installed: The initial compliance time for the leak check inspection specified in the applicable task identified in paragraph (j) of this AD, is at the later of the times specified in paragraphs (i)(2)(i) and (i)(2)(ii) of this AD.

(i) Within 550 flight hours after the installation of the P/N 1159SCP500-7 pump; except if 550 flight hours have accumulated since installation of the P/N 1159SCP500-7 pump and an initial leak check of the pump has not been accomplished, the compliance time is within 50 flight hours after doing the inspection required by paragraph (g) of this AD.

(ii) Within 30 days after the effective date of this AD.

(j) Service Information for Maintenance or Inspection Program Revision

Use the applicable service information specified in paragraph (j)(1), (j)(2), or (j)(3) of this AD, as applicable, to revise the airplane maintenance or inspection program, as applicable, as required by paragraph (i) of this AD.

(1) For Model GV airplanes: Use table 12, Certification Maintenance Requirements (CMR), in section 05-10-10, Airworthiness Limitations, of chapter 05, Time Limits/Maintenance Checks; and task 28-26-01, Fuel Boost Pumps—Fuel Leak Check, of section 28-26-01, Fuel Boost Pumps—Inspection/Check, of chapter 28, Fuel; of the Gulfstream V Maintenance Manual, Revision 44, dated June 15, 2016.

(2) For Model GV-SP airplanes designated as G500: Use task 28-26-01, Fuel Boost Pumps—Fuel Leak Check, in table 12, Certification Maintenance Requirements (CMR), in section 05-10-10, Airworthiness Limitations, of chapter 05, Time Limits/Maintenance Checks; and task 28-26-01, Fuel Boost Pumps—Fuel Leak Check, of section 28-26-01, Fuel Boost Pumps—Inspection/Check, of chapter 28, Fuel; of the Gulfstream G500 Maintenance Manual, Revision 25, dated June 15, 2016.

(3) For Model GV-SP airplanes designated as G550: Use task 28-26-01, Fuel Boost Pumps—Fuel Leak Check, in table 12, Certification Maintenance Requirements (CMR), in section 05-10-10, Airworthiness Limitations, of chapter 05, Time Limits/Maintenance Checks; and task 28-26-01, Fuel Boost Pumps—Fuel Leak Check, of section 28-26-01, Fuel Boost Pumps—Inspection/Check, of chapter 28, Fuel; of the Gulfstream G550 Maintenance Manual, Revision 25, dated June 15, 2016.

(k) Credit for Previous Actions

This paragraph provides credit for the actions specified in paragraph (i) of this AD, if those actions were performed before the effective date of this AD using the applicable service information in paragraphs (k)(1) through (k)(12) of this AD.

(1) Table 18, 500 Flight Hours Scheduled Inspection Table, in section 05-20-00, Scheduled Maintenance Checks, of chapter 05, Time Limits/Maintenance Checks, of the Gulfstream V Maintenance Manual, Revision 42, dated June 20, 2013.

(2) Task 28-26-01, Fuel Boost Pumps—Fuel Leak Check, of section 28-26-01, Fuel Boost Pumps—Inspection/Check, of chapter 28, Fuel, of the Gulfstream V Maintenance Manual, Revision 42, dated June 20, 2013.

(3) Task 28-26-01, Fuel Boost Pumps—Fuel Leak Checks, in table 20, 500 Flight Hours Scheduled Inspection Table, in section 05-20-00, of chapter 05, Time Limits/Maintenance Checks, of the Gulfstream G500 Maintenance Manual, Revision 23, dated June 20, 2013.

(4) Task 28-26-01, Fuel Boost Pumps—Fuel Leak Check, of section 26, Fuel Boost Pumps, of chapter 28, Fuel, of the Gulfstream G500 Maintenance Manual, Revision 23, dated June 20, 2013.

(5) Task 28-26-01, Fuel Boost Pumps—Fuel Leak Check, in table 20, 500 Flight Hours Scheduled Inspection Table, in section 05-20-00, of chapter 05, Time Limits/Maintenance Checks, of the Gulfstream G550 Maintenance Manual, Revision 23, dated June 20, 2013.

(6) Task 28-26-01, Fuel Boost Pumps—Fuel Leak Check, of section 26, Fuel Boost Pumps, of chapter 28, Fuel, of the Gulfstream G550 Maintenance Manual, Revision 23, dated June 20, 2013.

(7) Table 12, Certification Maintenance Requirements (CMR), in section 05-10-10, Airworthiness Limitations, of chapter 05, Time Limits/Maintenance Checks, of the Gulfstream V Maintenance Manual, Revision 43, dated February 15, 2015.

(8) Task 28-26-01, Fuel Boost Pumps—Fuel Leak Check, of section 28-26-01, Fuel Boost Pumps—Inspection/Check, of chapter 28, Fuel, of the Gulfstream V Maintenance Manual, Revision 43, dated February 15, 2015.

(9) Table 12, Certification Maintenance Requirements (CMR), in section 05-10-10, Airworthiness Limitations, of chapter 05, Time Limits/Maintenance Checks, of the Gulfstream G500 Maintenance Manual, Revision 24, dated February 15, 2015.

(10) Task 28-26-01, Fuel Boost Pumps—Fuel Leak Check, of section 28-26-01, Fuel Boost Pumps—Inspection/Check, of chapter 28, Fuel, of the Gulfstream G500 Maintenance Manual, Revision 24, dated February 15, 2015.

(11) Table 12, Certification Maintenance Requirements (CMR), in section 05-10-10, Airworthiness Limitations, of chapter 05, Time Limits/Maintenance Checks, of the Gulfstream G550 Maintenance Manual, Revision 24, dated February 15, 2015.

(12) Task 28-26-01, Fuel Boost Pumps—Fuel Leak Check, of section 28-26-01, Fuel Boost Pumps—Inspection/Check, of chapter 28, Fuel, of the Gulfstream G550 Maintenance Manual, Revision 24, dated February 15, 2015.

(l) No Alternative Actions or Intervals

After accomplishing the revision required by paragraph (i) of this AD, no alternative actions (e.g., inspections) or intervals may be used unless the actions or intervals are approved as an alternative method of compliance in accordance with the procedures specified in paragraph (n) of this AD.

(m) Parts Installation Prohibition

As of January 7, 2014 (the effective date of AD 2013-22-19), no person may install a fuel boost pump having Gulfstream P/N 1159SCP500-5 on any airplane.

(n) Alternative Methods of Compliance (AMOCs)

(1) The Manager, Atlanta Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (o)(1) of this AD.

(2) Before using any approved AMOC, notify your appropriate principal inspector, or lacking a principal inspector, the manager of the local flight standards district office/certificate holding district office.

(3) AMOCs approved for AD 2013-22-19, are approved as AMOCs for the corresponding provisions of this AD.

(4) For service information that contains steps that are labeled as Required for Compliance (RC), the provisions of paragraphs (n)(4)(i) and (n)(4)(ii) apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(o) Related Information

(1) For more information about this AD, contact Ky Phan, Aerospace Engineer, Propulsion and Services Branch, ACE-118A, FAA, Atlanta ACO, 1701 Columbia Avenue, College Park, GA 30337; phone: 404-474-5536; fax: 404-474-5606; email: ky.phan@faa.gov.

(2) Service information identified in this AD that is not incorporated by reference is available at the addresses specified in paragraphs (p)(5) and (p)(6) of this AD.

(p) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on May 17, 2017.

(i) Gulfstream G500 Customer Bulletin 122, dated April 11, 2012.

(ii) Gulfstream V Maintenance Manual, Revision 44, dated June 15, 2016:

(A) Table 12, Certification Maintenance Requirements (CMR), in section 05-10-10, Airworthiness Limitations, of chapter 05, Time Limits/Maintenance Checks.

(B) Task 28-26-01, Fuel Boost Pumps—Fuel Leak Check, of section 28-26-01, Fuel Boost Pumps—Inspection/Check, of chapter 28, Fuel.

(iii) Gulfstream G500 Maintenance Manual, Revision 25, dated June 15, 2016:

(A) Table 12, Certification Maintenance Requirements (CMR), in section 05-10-10, Airworthiness Limitations, of chapter 05, Time Limits/Maintenance Checks.

(B) Task 28-26-01, Fuel Boost Pumps—Fuel Leak Check, of Section 28-26-01, Fuel Boost Pumps—Inspection/Check, of chapter 28, Fuel.

(iv) Gulfstream G550 Maintenance Manual, Revision 25, dated June 15, 2016:

(A) Table 12, Certification Maintenance Requirements (CMR), in section 05-10-10, Airworthiness Limitations, of chapter 05, Time Limits/Maintenance Checks.

(B) Task 28-26-01, Fuel Boost Pumps—Fuel Leak Check, of section 28-26-01, Fuel Boost Pumps—Inspection/Check, of chapter 28, Fuel.

(4) The following service information was approved for IBR on January 7, 2014 (78 FR 72554, December 3, 2013).

(i) Gulfstream G550 Customer Bulletin 122, dated April 11, 2012.

(ii) Gulfstream V Customer Bulletin 197, dated April 11, 2012.

(iii) General Electric Service Bulletin 31760-28-100, dated February 15, 2011.

(iv) Triumph Service Bulletin SB-TAGV/GVSP-28-JG0162, dated August 30, 2011.

(5) For Gulfstream, Triumph Aerostructures, and General Electric Aviation service information identified in this AD, contact Gulfstream Aerospace Corporation, Technical Publications Dept., P.O. Box 2206, Savannah, GA 31402-2206; telephone 800-810-4853; fax 912 965-3520; email pubs@gulfstream.com; Internet http://www.gulfstream.com/product_support/technical_pubs/pubs/index.htm.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on March 31, 2017.
Michael Kaszycki,
Acting Manager, Transport Airplane Directorate, Aircraft Certification Service.

[FR Doc. 2017-06962 Filed 4-11-17; 8:45 am]

BILLING CODE 4910-13-P